FEDERAL MARITIME COMMISSION

Ocean Transportation Intermediary License Revocations

The Commission gives notice that the following Ocean Transportation Intermediary licenses have been revoked pursuant to section 19 of the Shipping Act of 1984 (46 U.S.C. 40101) effective on the date shown.

License No.: 3642F.

Name: Honeybee International Forwarding.

Address: 2301 S. Tubeway Avenue, Commerce, CA 90040.

Date Revoked: May 16, 2013.

Reason: Voluntary Surrender of License.

License No.: 015890NF.

Name: OEC Freight Chicago, Inc.

Address: 501 Frontier Way, Bensenville, IL 60106.

Date Revoked: May 6, 2013.

Reason: Voluntary Surrender of License.

License No.: 021796NF.

Name: Keith Phillips Transportation, LLC.

Address: 124 Garden Gate Drive, Ponte Vedra Beach, FL 32082.

Date Revoked: May 15, 2013.

Reason: Voluntary Surrender of License.

License No.: 021952NF.

Name: Streamline Trade Management Inc. dba Teamwork Logistic.

Address: 177-25 Rockaway Blvd. Suite 213, Jamaica, NY 11434.

Date Revoked: May 9, 2013.

Reason: Voluntary Surrender of License.

License No.: 023793NF.

Name: Interlink Cargo Logistics, LLC.

Address: 76 Loy Avenue, Riverdale, NJ 07457.

Date Revoked: May 14, 2013.

Reason: Voluntary Surrender of License.

James A. Nussbaumer,
Deputy Director, Bureau of Certification and Licensing.

[FR Doc. 2013-13327 Filed 6-4-13; 8:45 am]

BILLING CODE 6730-01-P